FEDERAL COMMUNICATIONS COMMISSION

Notice of Public Information Collection(s) Being Submitted for Review to the Office of Management and Budget, Comments Requested

June 16, 2009.

SUMMARY: The Federal Communications Commission, as part of its continuing effort to reduce paperwork burden invites the general public and other Federal agencies to take this opportunity to comment on the following information collection(s), as required by the Paperwork Reduction Act (PRA) of 1995, 44 U.S.C. 3501—3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 27, 2009. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B.Herman@fcc.gov, Federal Communications Commission, or an e-mail to PRA@fcc.gov.

FOR FURTHER INFORMATION CONTACT: For additional information, contact Judith B. Herman at 202-418-0214 or via the Internet at Judith-B.Herman@fcc.gov.

SUPPLEMENTARY INFORMATION: OMB Control Number: 3060-0979.

Title: License Audit Letter.

Form No.: N/A.

Type of Review: Extension of a currently approved collection.

Respondents: Individuals or households, business or other for-profit; not-for-profit institutions; Federal Government; and state, local or tribal government.

Number of Respondents: 310,000 respondents; 310,000 responses.

Estimated Time per Response: .50 hours.

Frequency of Response: One-time reporting requirement.

Obligation To Respond: Required to obtain or retain benefits. Statutory authority for this information collection are contained in 47 U.S.C. Sections 15, 152, 154(i), 157, 201, 202, 218, 301, 302(a), 303, 307, 308, 309, 310, 311, 314, 316, 324, 331, 332, 333, 336, 534, and 535 of the Communications Act of 1934, as amended.

Total Annual Burden: 155,000 hours.

Total Annual Cost: N/A.

Privacy Act Impact Assessment: Yes. The FCC has a System of Records (SORN), FCC/WTB-1, “Wireless Services Licensing Records,” to cover the personally identifiable information affected by this information collection requirement. At this time, the Commission (FCC) is not required to complete a Privacy Act Impact Assessment (PIA).

Nature and Extent of Confidentiality: In general, there is no need for confidentiality. On a case by case basis, the Commission may be required to withhold from disclosure certain information about the location, character, or ownership of historic property, including traditional religious sites.

Needs and Uses: The Commission will submit this information collection to the Office of Management and Budget (OMB) after this 60 day comment period in order to obtain the full three year clearance from them. The Commission is requesting an extension (no change in the reporting requirement) of this information collection. There is no change in the estimated respondents/responses, and or annual burden hours.

The Wireless Telecommunications Bureau (WTB) of the Federal Communications Commission (FCC) conducts audits of the construction and operational status of various wireless radio stations in its licensing database that are subject to rule-based construction and operational requirements. The Commission rules, 47 CFR 1.80, 90.155 and 90.157, for these wireless services require construction within a specified time frame and require a station to remain operational in order for the license to remain valid. The Commission sends a “License Audit Letter” to the wireless licensee requesting that they respond to the instructions in the letter (and applicable rules) within 30 calendar days from the date on the letter.

This reporting requirement will be used by Commission staff to assure that licensees' stations are constructed and currently operating in accordance with the parameters of the current FCC authorization and rules.

Federal Communications Commission.
Marlene H. Dortch,
Secretary.

[FR Doc. E9-15134 Filed 6-25-09; 8:45 am]

BILLING CODE 6712-01-P